DEPARTMENT OF ENERGY

Federal Energy Regulatory Commission

[Docket No. CP08-427-000]

Florida Gas Transmission Company, LLC; Notice of Request Under Blanket Authorization

June 25, 2008.

Take notice that on June 18, 2008, Florida Gas Transmission Company, LLC (FGT), 5444 Westheimer Road, Houston, Texas 77056, filed in Docket No. CP08-427-000, a prior notice request pursuant to sections 157.205 and 157.212 of the Federal Energy Regulatory Commission's regulations under the Natural Gas Act for authorization to construct, own, and operate an interconnect with Golden Pass Pipeline LP (GPPL), located in Orange County, Texas, to receive revaporized liquefied natural gas (LNG), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, FGT proposes the installation of a 12-inch tap and valve, approximately 40 feet of 16-inch diameter connecting pipe, electronic flow measurement equipment, a gas chromatograph, and an instrument and electrical building (GPPL Interconnect). FGT estimates the cost of construction to be $484,065. FGT states that the proposed GPPL Meter Station will be designed and constructed for flow capability of up to 250 MMcf/d. FGT asserts that the new GPPL Interconnect will provide FGT with the ability to receive revaporized LNG from the Golden Pass LNG terminal, through the GPPL pipeline.

Any questions regarding the application should be directed to Stephen Veatch, Senior Director of Certificates & Tariffs, Florida Gas Transmission Company, LLC, 5444 Westheimer Road, Houston, Texas 77056, at (713) 989-2024, fax (713) 989-1158, or by e-mail stephen.veatch@SUG.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-15090 Filed 7-2-08; 8:45 am]

BILLING CODE 6717-01-P